SURFACE TRANSPORTATION BOARD

[Docket No. FD 36334]

Golden Isles Terminal Railroad, Inc.—Trackage Rights Exemption—CSX Transportation, Inc.

Golden Isles Terminal Railroad, Inc. (GITM), a Class III railroad, has filed a verified notice of exemption under 49 CFR 1180.2(d)(7) to acquire trackage rights on a line of railroad owned by CSX Transportation, Inc. (CSXT), between milepost A489± near Georgia Ports Authority Garden City Terminal and milepost S500± at or about the entrance to CSXT's Savannah Yard, plus sufficient head or tail room (i) from the north entrance to Old Savannah Yard, through Loricks Lead, out on Number One Main to milepost A492±, and (ii) from the south entrance of Old Savannah Yard, through the Blossom signal, out on Mainline to milepost S504±, in Chatham County, Ga.¹ According to GITM, the trackage rights agreement replaces a previous trackage rights agreement between CSXT to GITM that has expired.²

¹ A redacted version of the agreement between GITM and CSXT was filed with GITM's verified notice of exemption. GITM simultaneously filed a motion for a protective order to protect the confidential and commercially sensitive information in the unredacted version of the agreement, which GITM submitted under seal. That motion will be addressed in a separate decision.

² See Golden Isles Terminal R.R.—Trackage Rights Exemption—CSX Transp., Inc., FD 34432 (STB served Nov. 20, 2003). GITM states that, although the trackage rights agreement expired, the trackage rights were not discontinued and by agreement of the parties, GITM continues to use the trackage rights under the terms of the expired agreement.

The verified notice states that the proposed transaction will allow GITM to bridge intermodal traffic between the Garden City Terminal and Savannah Yard for CSX Intermodal Terminals, Inc., and to provide supporting switching services.

The proposed transaction may be consummated on or after August 17, 2019, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed by August 9, 2019 (at least seven days before the exemption becomes effective).

All pleadings, referring to Docket No. FD 36334, must be filed with the Surface Transportation Board, either via e-filing or in writing addressed to 395 E Street SW, Washington, DC 20423-0001. In addition, a copy of each pleading must be served on GITM's representative, Eric M. Hocky, Clark Hill, PLC, One Commerce Square, 2005 Market Street, Suite 1000, Philadelphia, PA 19103.

According to GITM, this action is categorically excluded from environmental review under 49 CFR 1105.6(c), and from historic reporting under 49 CFR. 1105.8(b)(3).

Board decisions and notices are available at www.stb.gov.

Decided: July 29, 2019.

By the Board, Scott M. Zimmerman, Acting Director, Office of Proceedings.

Aretha Laws-Byrum,
Clearance Clerk.

[FR Doc. 2019-16515 Filed 8-1-19; 8:45 am]

BILLING CODE 4915-01-P